DEPARTMENT OF TRANSPORTATION

National Highway Traffic Safety Administration

49 CFR Part 571

[Docket No. NHTSA 2005-20791]

Federal Motor Vehicle Safety Standards

AGENCY: National Highway Traffic Safety Administration (NHTSA), DOT.

ACTION: Denial of petition for rulemaking.

SUMMARY: This document denies a petition for rulemaking submitted by the Fire Equipment Manufacturers Association (FEMA) to require all new light duty trucks to be equipped with fire extinguishers.

FOR FURTHER INFORMATION CONTACT: For legal issues: Mr. George Feygin, Office of the Chief Counsel, phone (202) 366-2992. For technical issues: Mr. Charles R. Hott, Office of Crashworthiness Standards, NVS-113, phone (202) 366-0247.

You can reach both of these officials at the National Highway Traffic Safety Administration, 400 Seventh St., SW., Washington, DC 20590.

SUPPLEMENTARY INFORMATION: On September 14, 2004, NHTSA received a petition from FEMA to require all new light duty trucks ¹ to be equipped with fire extinguishers.² FEMA is an international group of leading fire protection manufacturers working together to educate the public about fire prevention to save lives and reduce property damage. Member companies manufacture fire protection products.

¹ The United States Department of Transportation, Traffic Safety Facts 2003 defines “light duty trucks” as “trucks of 10,000 pounds gross vehicle weight rating or less, including pickups, vans, truck-based station wagons, and utility vehicles.”

² See Docket No. NHTSA-2004-16856-44.

FEMA stated that the safety benefits of fire extinguishers in all new light trucks justify rulemaking to require the installation of portable fire extinguishers. FEMA also stated that fires are a common occurrence on America's highways and in automobile crashes. FEMA noted that according to the Traffic Safety Facts 2001, there were 14,000 automobile accidents where fire was involved, representing 0.1 percent of all vehicles involved in traffic crashes. Of those 14,000 accidents, 1,657 proved to be fatal and 5,000 involved injury. FEMA further stated that automobile crashes involving fires are more deadly. FEMA also provided data showing that crash related fires represent two percent of the total vehicle fires in the United States. FEMA enclosed a report from the National Fire Protection Association ³ showing that there were 307,000 fires in all motor vehicles in 2002.

³ Fire Loss in the United States During 2002, National Fire Protection Association, September 2003.

FEMA contends that requiring fire extinguishers in new light trucks can help slow down the spread of fires because all fires start small, and it is crucial to keep the fire at bay long enough to rescue any occupants in order to prevent loss of life or injury. FEMA stated that swift use of portable fire extinguishers is likely to prevent small fires from becoming more significant and dangerous, and that this will provide rescuers with additional time to save occupants. FEMA further contends that increasing the number of fire extinguishers on roads increases the chance that vehicles passing an automobile fire can help rescue occupants. FEMA stated that fire extinguishers in new light trucks would give good Samaritans the ability to slow a fire.

FEMA further claimed that the Federal Motor Carrier Safety Administration (FMCSA) regulation requiring fire extinguishers in large trucks and buses engaged in interstate commerce, and the United States Coast Guard regulation requiring portable fire extinguishers in any boat with an inboard engine or permanently installed fuel tank, sets precedents to require portable fire extinguishers in new light trucks. FEMA stated the FMCSA regulation was brought about because it allows the driver to extinguish an electrical, tire, gasoline or cargo fire, and the United States Coast Guard regulation was issued because rescue personnel are not able to respond quickly enough if the fire occurs in a boat offshore.

FEMA provided 163 media reports of portable fire extinguishers used to extinguish or slow fires in motor vehicles. FEMA stated that according to the reports, more than 70 individuals were saved through the use of portable fire extinguishers. FEMA further stated that the vast majority of instances where portable fire extinguishers were used at the scene of an automobile accident were because of good Samaritans who had fire extinguishers in their vehicles, or because of police officers and truck drivers that are required to have portable fire extinguishers in their vehicles. FEMA claims that increasing the supply of portable fire extinguishers would greatly increase the safety of drivers and occupants of all vehicles on America's roads, not just light trucks.

FEMA further contended that requiring light trucks to be equipped with portable fire extinguishers would not be an onerous requirement. FEMA stated that many light trucks sold in the United States are engineered to be easily equipped because many countries throughout the world already require fire extinguishers in all vehicles. Austria, Belgium, the Russian Federation, Greece, Poland, Estonia, Mexico, Columbia, Latvia and Lithuania were cited as already requiring portable fire extinguishers in all motor vehicles, with Denmark, Germany, Italy, Portugal, Switzerland, Sweden and the Netherlands strongly recommending drivers to so equip their automobiles.

FEMA estimated the cost to equip new light trucks with fire extinguishers to be relatively minor, and that there would be a significant number of lives saved.

Analysis of the Petitioner's Argument

As indicated in the petition, crash related fires in motor vehicles represent only a small proportion of the total vehicle fires. An analysis of crash related fires in motor vehicles are reported annually by Traffic Safety Facts, and show that there is an average of 15,000 crash related motor vehicle fires per year with about seventy percent occurring in passenger cars and light trucks. Also, as indicated in the petition, there are many motor vehicle fires that are not crash related. The National Fire Protection Association report, “Fire Loss in the United States During 2002,” determined that there were about 329,000 fires in motor vehicles and 1,700 injuries to civilians in highway vehicle fires. However, FEMA provided no data to demonstrate that requiring portable fire extinguishers in new light trucks would reduce the number of injuries or fatalities associated with those fires. The agency is not convinced by FEMA's argument that increasing the number of fire extinguishers on the road would reduce the number of injuries or fatalities. The United States Fire Administration (USFA), in the Department of Homeland Security, Federal Emergency Management Agency, data show that sixty-four percent of the fire deaths are a result of the collision. The data also show that forty-five percent of persons injured in vehicle fires were injured while attempting to control the fire, twenty-one percent were injured trying to escape the blaze, and only eleven percent of the injured were incapacitated prior to ignition.⁴

⁴ U.S. Fire Administration, Topical Fire Research Series, Volume 2, Issue 4 July 2001 (Rev. March 2002).

The agency is concerned that if portable fire extinguishers were required as standard equipment in light duty trucks, there could be an increase in the number of injuries or fatalities, because not all motorists are trained to use portable fire extinguishers to put out automobile fires. Many of the media reports provided by FEMA showed that the users of the portable fire extinguishers were people who would have had more knowledge of fire safety and the use of portable fire extinguishers than average motorists, such as police officers or drivers of commercial vehicles.

The agency is concerned that making portable fire extinguishers available in all light duty trucks could increase the number of injuries and fatalities. The data from USFA clearly show that forty-five percent of the persons injured in vehicle fires were injured while attempting to control the fire. While good Samaritans may have sufficient training and/or knowledge to assist in extinguishing a vehicle fire, there is no evidence to suggest that the general driving public could safely extinguish such fires without exposing themselves to a greater risk than the potential benefit, even if the fire extinguishers were properly maintained. Firefighters and other emergency responders have training and are better prepared to safely extinguish such fires. As such, the available data do not show that requiring portable fire extinguishers in new light duty trucks, as petitioned by FEMA, would reduce the number of vehicle fire related deaths and injuries.

Decision To Deny the Petition

In accordance with 49 CFR part 552, this completes the agency's review of the petition for rulemaking. Accordingly, the petition for rulemaking is denied for the reasons stated above.

Authority: 49 U.S.C. 322, 30111, 30115, 30117, and 30162; delegation of authority at 49 CFR 1.50 and 501.8.

Issued on: May 3, 2005.
Stephen R. Kratzke,
Associate Administrator for Rulemaking.

[FR Doc. 05-9139 Filed 5-5-05; 8:45 am]

BILLING CODE 4910-59-P